OFFICE OF MANAGEMENT AND BUDGET

Executive Office of the President; Draft Report of the Small Business Paperwork Relief Act Task Force

AGENCY: Office of Management and Budget, Executive Office of the President.

ACTION: Notice and request for comments.

Authority: The Small Business Paperwork Relief Act (44 U.S.C. 3520).

SUMMARY: The Small Business Paperwork Relief Task Force requests comments on the attached Draft Report. In this Draft Report, the Small Business Paperwork Relief Task Force discusses and makes recommendations concerning the improvement of electronic dissemination of information collected under Federal requirements and a plan to develop an interactive Government-wide Internet program to identify applicable collections and facilitate compliance.

DATES: Submit comments on or before June 4, 2004.

ADDRESSES: Comments on this Draft Report should be addressed to Jonathan Koller, Office of E-Government and Information Technology. You are encouraged to submit these comments by facsimile to (202) 395-0342, or by electronic mail to smallbiz@omb.eop.gov.

FOR FURTHER INFORMATION CONTACT: Mr. Jack Koller, Office of Electronic Government and Information Technology, OMB Washington, DC 20503 (202) 395-4955. Inquiries may be submitted by facsimile to (202) 395-0342.

SUPPLEMENTARY INFORMATION: Under the SBPRA (44 U.S.C. 3520) Congress directed the Director of OMB to convene a Task Force to study the feasibility of streamlining requirements with respect to small business concerns regarding collection of information and strengthening dissemination of information (44 U.S.C. 3520, Pub. L. 107-198). More specifically, this Task Force is charged with examining five tasks designed to reduce the information collection burden placed by government on small businesses. These tasks are as follows:

1. Examine the feasibility and desirability of requiring the consolidation of information collection requirements within and across Federal agencies and programs, and identify ways of doing so.

2. Examine the feasibility and benefits to small businesses of having OMB publish a list of data collections organized in a manner by which they can more easily identify requirements with which they are expected to comply.

3. Examine the savings and develop recommendations for implementing electronic submissions of information to the Federal government with immediate feedback to the submitter.

4. Make recommendations to improve the electronic dissemination of information collected under Federal requirements.

5. Recommend a plan to develop an interactive Government-wide Internet program to identify applicable collections and facilitate compliance.

While carrying out its work, the Task Force is to consider opportunities for the coordination of Federal and State reporting requirements, and coordination among individuals who have been designated as the small business “point of contact” for their agencies.

On June 28, 2003, the Task Force submitted a report of its findings on the first three issues. This report, which addresses the final two issues, is required no later than two years after enactment, or June 28, 2004. Both reports must be submitted to the Director of OMB, the Small Business and Agriculture Regulatory Enforcement Ombudsman, and the Senate Committees on Governmental Affairs and Small Business and Entrepreneurship, and the House Committees on Government Reform and Small Business.

The Director of OMB appointed Dr. John D. Graham, Administrator of the Office of Information and Regulatory Affairs, and Ms. Karen S. Evans, Administrator for E-Government and Information Technology, to co-chair the Task Force.

The Act specifies the following agencies to be represented on the SBPRA Task Force: Department of Labor (including the Bureau of Labor Statistics, and the Occupational Safety and Health Administration); Environmental Protection Agency; Department of Transportation; Office of Advocacy of the Small Business Administration; Internal Revenue Service; Department of Health and Human Services (including the Centers for Medicare and Medicaid Services); Department of Agriculture; Department of the Interior; the General Services Administration; and two other participants to be selected by the Director of OMB (who are the Department of Commerce and additional representatives from the Small Business Administration).

The Task Force is now seeking input from all interested parties concerning the findings and recommendations contained in this draft report. All comments will be considered and may result in modifications to the final report. A summary of the public comments with responses of the Task Force will be attached to the final report.

John D. Graham,
Administrator, Office of Information and Regulatory Affairs.
Karen S. Evans,
Administrator for E-Government and Information Technology.

Executive Summary

The Small Business Paperwork Relief Act of 2002 (the Act) was enacted June 28, 2002. The goal of the Act is to reduce the burden of Federal paperwork on small businesses. The Act requires the Federal government to (1) publish an annual list of the compliance assistance resources available to small businesses, (2) establish a single point of contact within agencies to interact with small businesses, and (3) establish an interagency Task Force to study and recommend additional means of reducing the burden on small businesses.

On June 28, 2003, the SBPRA Task Force submitted their first report to Congress outlining a series of recommendations that would streamline the information submission process and reduce the paperwork burden for small businesses. It identified a number of steps to be taken to consolidate information collections, organize a list of such collections, and provide for electronic submission of forms.

This second SBPRA Task Force report builds upon the recommendations provided in the first report and reflects the impact that the first report has had upon the small business community. It identifies a series of recommendations on disseminating information and specifically identifies a solution, developed over the previous year among agencies, to identify applicable collections and facilitate compliance with Federal paperwork requirements.

First, the Task Force identifies opportunities for improved consolidation or coordination of information dissemination efforts. There are significant barriers to the establishment of a unilateral requirement or mandate for Federal agencies to coordinate information dissemination activities. However, a number of steps are recommended to encourage similar access to the broader base of Federal information. These steps include augmenting agency SBPRA plans, improving the organization and classification of information and establishing a partnership between agencies and the small business community.

Second, the Task Force describes an interactive Internet-based system to help small business better understand existing paperwork requirements and make it easier for businesses to comply with such requirements. The Business Gateway initiative will provide a single web point of access for relevant regulatory information on all Federal forms, and harmonize industry-specific information collection requirements.

The Task Force and their members have identified a significant number of opportunities for the Federal government to support and provide better assistance to the small business community. The recommendations in both reports, if implemented, will fulfill the objectives outlined in the Act.

1. The Small Business Paperwork Relief Act Task Force

A. What Specific Functions Are Assigned to the Task Force?

The Small Business Paperwork Relief Act requires the Director of Office of Management and Budget (OMB) to convene and chair a Task Force “to study the feasibility of streamlining requirements with respect to small business concerns regarding collection of information and strengthening dissemination of information.”

More specifically, the Task Force is charged with five tasks designed to reduce the information collection burden placed by the Federal government on small businesses. These tasks are as follows:

1. Examine the feasibility and desirability of requiring the consolidation of information collection requirements within and across Federal agencies and programs, and identify ways of doing so.

2. Examine the feasibility and benefits to small businesses of having OMB publish a list of data collections organized in a manner by which they can more easily identify requirements with which they are expected to comply.

3. Examine the savings and develop recommendations for implementing electronic submissions of information to the Federal government with immediate feedback to the submitter.

4. Make recommendations to improve the electronic dissemination of information collected under Federal requirements.

5. Recommend a plan to develop an interactive Government-wide Internet program to identify applicable collections and facilitate compliance.

While carrying out its work, the Task Force is asked to consider opportunities for the coordination of Federal and State reporting requirements, and coordination among individuals who have been designated as the small business “point of contact” for their agencies.

The Task Force is required to submit a report of its findings on the first three tasks no later than one year after enactment, or June 28, 2003. A second report on the final two tasks is required no later than two years after enactment, or June 28, 2004. Both reports must be submitted to the Director of OMB, the Small Business and Agriculture Regulatory Enforcement Ombudsman, the Senate Committees on Governmental Affairs and Small Business and Entrepreneurship and the House Committees on Government Reform and Small Business.

This draft represents the second report required under the Act. The first report was submitted to Congress on June 28, 2003 and is available at http://www.whitehouse.gov/omb/inforeg/sbpr2003.pdf.

B. Which Agencies Are Represented, and Who Are the Small Business Paperwork Relief Task Force Members?

The Director of OMB appointed Dr. John D. Graham, Administrator of the Office of Information and Regulatory Affairs, and Karen S. Evans, Administrator of the Office of E-Government and Information Technology, to co-chair the Task Force. Dr. Graham is responsible for administering the Paperwork Reduction Act and for overseeing the Federal regulatory process. Ms. Evans is responsible for overseeing the President's Expanding E-Gov Initiative, including a Government-to-Business Portfolio of projects.

The Act specifies the following agencies to be represented on the Task Force: The Department of Labor (including the Bureau of Labor Statistics, and the Occupational Safety and Health Administration), Environmental Protection Agency, Department of Transportation, Office of Advocacy of the Small Business Administration, Internal Revenue Service, Department of Health and Human Services (including the Centers for Medicare and Medicaid Services), Department of Agriculture, Department of Interior, General Services Administration and two other participants to be selected by the Director of OMB (the Department of Commerce and additional representation from the Small Business Administration were chosen).

C. What Are the Goals, Objectives, and Operating Principles of the Task Force?

Goal: Identify effective, realistic ways to reduce the burden on small businesses by making it easier to find, understand, and comply with government information collections.

Objective 1: Recommend actions that can make it easier for small businesses to find out what information collections apply to them from individual Federal agencies, across all Federal agencies, and from State and local governments, where practicable.

Objective 2: Recommend actions that can reduce the difficulty, frequency, redundancy, and expense of compliance for small businesses.

Objective 3: Recommend actions that will help small businesses understand why information is being collected and how it benefits them.

Operating Principles:

1. Recommendations should be consistent with principles of the President's Management Agenda:

a. Citizen-centered, not bureaucracy-centered.

b. Small business concerns and burden reduction are a priority for the Federal government.

c. Results-oriented. Success should be measured by benefits that are demonstrable.

d. Market-based, actively promoting innovation.

2. Recommendations must be technically feasible.

3. Recommendations should be supportable within existing government agencies and management structures.

4. Recommendations must be achievable given existing Agency resources, or sufficient case must be made to support additional costs.

5. Recommendations should address both short term and long term remedies.

6. Recommendations should leverage and build on efforts underway that address the Task Force's goals.

7. Recommendations should be consistent with lessons learned and based on best practices from past efforts.

D. What Methods Did the Task Force Use to Derive Its Recommendations?

The Task Force began its work with a meeting of the full membership to develop a common understanding of the law, project goals, scope, roles and responsibilities, resource requirements, strategy, timeline and deliverables.

After the initial meeting, the Task Force formed two subcommittees to address each of the two statutorily required tasks questions in greater detail. Additional staff experts from Federal agencies joined the effort. The subcommittees used methods such as assigning specific questions to experts for research, in-person and virtual brainstorming, inventorying and investigating activities and projects already underway, studying best practices and lessons learned from prior/current activities, and studying the results of public outreach conducted by the Small Business Administration's (SBA) Office of Advocacy and other reference material intended to provide input from the business community and other stakeholders.

The subcommittee members and staff experts worked together to develop findings and recommendations.

The SBA's Office of Advocacy held a public meeting on February 9, 2004, to solicit the views of interested persons regarding the Task Force's duties. The Chief Counsel for Advocacy convened and chaired the meeting.

2. Findings and Recommendations

A. Task #4: Improve Electronic Dissemination of Information Collected Under Federal Requirements

Problem Statement

As noted earlier in this report, accessing the wide variety of public information collected by the Federal government can place a difficult, time-consuming, and expensive burden on citizens and businesses, particularly small businesses. Understanding the information that is available is made more difficult by the size and complexity of the government and enormous volume of information collections that the Federal government conducts. All sectors of the public, including small businesses and private citizens, should be able to easily access, retrieve, and use available government information, ideally free of charge. A May 2000 report stated the government then had an estimated 20,000 separate homepages and 40 million web pages.¹ Substantial growth has occurred since then and current seekers of government information often find poorly organized government databases and websites lacking user-friendly search capabilities.

¹ Workshop Report on a Future Information Infrastructure for the Physical Sciences: The Facts of the Matter: Finding, Understanding and Using Information About Our Physical World, Washington, DC, May 30-31, Department of Energy, Office of Scientific and Technical Information.

One obvious challenge is simply the enormity of the volume of information collected. Improving electronic dissemination of Federally-collected information requires enhancing government information technology, both in terms of simple agency management and distribution, and in terms of capabilities for sharing with the public and other government entities. Other issues are the adequacy of searching mechanisms and use of government terminology versus common terms.

During the Small Business Administration's Office of Advocacy Public Outreach Meeting held on February 9, 2004, the following issues and problems were identified by small business community representatives in the area of information dissemination:

1. Federal agency web sites need to be customer-centric with information organized by topic area, not by the organization that collected or reported the information.

2. There is a need for “one-stop shopping” or one source for information.

3. Search engines widely used on the Internet cannot locate Federal government information.

4. There is a need for a contact person or Hotline that can be called and that can assist in locating information.

5. Wherever possible, Federal agency web sites need to clearly date materials they post on the internet. The public wants to know when material was created or collected. Dating materials provides the public with guidance as to how relevant or timely the resources are and in some circumstances, whether the materials were prepared prior to or after, pertinent regulatory change.

In addition the Task Force has identified eight specific areas that contribute the need for improving the dissemination of federally-collected information:

1. Information is frequently difficult to locate.

2. Some information is not in a useful form. For example, data sets should be provided in formats that allow adjustment for specialized use.

3. Not all information that is collected may be disseminated; for example, information that may not be useful in aggregated form and information collected for enforcement and other protected purposes.

4. Many small businesses and other citizen groups do not know how or where to locate the information, or even that specific information is available. Today's public may not realize what information is available, may not know how to access it, and may not recognize the value of secondary uses.

5. The needs of small businesses and citizens are many and varied, and are sometimes not well defined; and agencies frequently do not make adequate efforts to address these needs.

6. Collected information needs to be more broadly shared among Federal agencies, and State and local governments.

7. Information integrity must be maintained. Assuming that Federally-collected information is quality-verified and reliable, maintaining the integrity of the information is a necessary consideration. Some information is time-sensitive or short-lived, and may lose its relevance or importance if not used quickly.

The Task Force has considered ways to improve access to information collected by identifying actions that Federal agencies can take to improve and coordinate their electronic dissemination of information.

Assumptions

In developing these recommendations, the Task Force made the assumption that electronic information dissemination issues are not restricted to small businesses, but apply to all businesses, state and local governments, and citizens. Therefore the recommendations have a general focus, with an emphasis on small business needs.

These recommendations will not focus on certain categories of Federally-collected information (explained below) either because such information lacks utility to the public or because of direct prohibitions to its release.

1. As recognized by the Freedom of Information Act's nine exemption categories some information in the possession of the Federal Government is not appropriate for public disclosure. Such sensitive information can include taxpayer data, personal or medical data, certain proprietary data, and information that would reveal sensitive deliberative processes.

2. Some information that is collected is not useful in an aggregated form or when it is retained in “raw” form. These recommendations should be focused on the particular stage or stages of the information life cycle that is useful to the particular constituencies of the information. However, it should be noted that multiple specialized constituencies often exist for the information that often make proactive dissemination appropriate at many or all stages.

Issues

The Task Force was asked to specifically consider the methods of improving the electronic dissemination of information collected under Federal requirements. The Task Force conducted a review, which identified a number of Federal government initiatives to improve electronic information dissemination. Several of these initiatives are described in Appendix I.

The Task Force believes that there is opportunity for improved consolidation or coordination of information dissemination efforts. This report outlines recommendations for accomplishing this task. However, the Task Force recognizes that, given the diversity of Federal government activities, no one method or template for disseminating information would fit all requirements. Below are four obstacles that make it difficult to improve dissemination of information through a top-down approach.

Vast Amount of Federal Information

Federal agencies collect a vast amount of information and make a great deal of it available to the public (as allowed by law and pursuant to statistical standards). However, this information or data is not readily available to the lay public and is spread across many different Federal agencies. The sheer volume of Federal information makes improvement in dissemination a very complex, time-consuming task.

Capabilities of the Small-Business Point of Contact

The Act requires each Agency to designate a single point of contact. Small business participants in the SBA public meeting were very supportive of this measure. The point of contact should be able to assist in locating electronic information disseminated by the Agency; however, the variety and volume of information collected and disseminated by any agency makes that a difficult task for a single point of contact. Defining how each agency should accomplish this educational service and assistance is difficult. An agency with a single point of dissemination, particularly where it is applicable to a discrete group of businesses, may find it relatively easy to provide a telephone service to address all of the relevant issues. More difficult would be the provision of knowledgeable assistance and services to a large number of businesses across many populations with different information requirements. In addition, if agencies have well-designed websites that provide information on whom to call or contact for specific types of information, fewer inquiries will go to their small business point of contact.

Challenges of Cross-Agency Initiatives

Although the E-Government initiatives have begun to demonstrate how cross-agency initiatives can be governed and financed, it has not been without a great deal of struggle. A significant challenge remains for agencies to coordinate and integrate their information.

Determining Customer Needs

One important role that the Federal government needs to fill is that of a service organization that provides its citizens/customers with the information and assistance they need to comply with Federal regulations and other requirements. In order to adequately serve its customers, the Federal government needs to be well informed about its customers' needs, expectations and abilities. Thus, agencies need to devote more time to better determine customer needs and abilities and to better inform, educate, and assist them. They need to be proactive, using an assessment of their needs and abilities to plan, design, and promptly deliver the right information, assistance, and service to our customers.

To determine customer needs, the government must identify its customers. Depending on the situation, our customers include the citizenry at large, small businesses, the third parties that represent them, and many other groups. We need to identify our customers, and determine how best to organize the information and services to meet the unique needs of specific customer market segments. Often these customers and their needs are very different for different agency missions. For example, in complying with Federal tax law, most guidance is general in nature, applies to a vast number of citizens, and is segmented by the type of organizational entity or form. Other regulators, such as Department of Transportation, have a narrower customer base that can more readily be segmented. Third parties are sometimes used to address regulatory compliance. For instance, 80% percent of small businesses use the services of a tax professional to assist them with tax law compliance, so the needs of third-party customers must be addressed as well.

Recommendations

The Task Force has developed several recommendations to achieve the Act's goals. The recommendations discussed below are consistent with the operating principles of the Task Force. They have been limited to options considered technically feasible, supportable within existing government management structures, and achievable given existing agency resources. The Task Force also considered the previous legislative efforts to address paperwork burden, discussed above, when developing the recommendations. The recommendations listed below are intended to supplement these prior efforts, and they do not alleviate the need to continue those efforts. The Task Force determined that more can and should be done within the existing framework created by these Acts to improve access to Federally-collected information.

A number of government projects, including multi-agency projects, have proven the feasibility and desirability of the consolidation of information dissemination activities, as well as improving the labeling, organization, and visibility of Federally collected data. While there are significant barriers to the establishment of a unilateral requirement or mandate to do so, a number of steps can be recommended to encourage similar approaches to a broader base of Federal information. Based on the analysis of the problem, assumptions, and issues discussed above, the Task Force recommends the following actions to improve electronic dissemination of information collected under Federal requirements. These recommendations should not be viewed as discrete actions; the recommendations form an integrated and inter-dependent set of actions.

1. Require Agencies to Augment their SBPRA Plan. The First Task Force Report, of June 2003, recommended that agencies be required to develop an SBPRA Plan. It is the recommendation of this Task Force that any such plan be augmented with the following information:

a. The plan should outline specific steps the agency would take to improve electronic dissemination of information collected under Federal requirements.

b. The plan should set goals for improving electronic dissemination of information, and establish timelines for achieving those goals.

c. The plan should identify activities that can be undertaken with other agencies having similar or related information collections. (See Recommendation 5 below.)

d. Additionally, each Agency should identify opportunities to improve public access to information; provide assistance to the public in locating, and using, Federally-collected information; and market, or publicize the availability of the information.

2. Improve the Organization and Classification of Information. Unfortunately, much government information is still categorized and displayed based on the organizational structure of the agency. This approach is not intuitively obvious to the customer, and desired information is difficult to find unless the customer is familiar with a particular program and where that program falls within an agency.

For example, within the Department of Agriculture, in order to find out about the requirements for conducting aquaculture business or how to certify fish health prior to export, a customer must first go to the Animal and Plant Health Inspection Service (APHIS) website, look under Veterinary Service to find the aquaculture program information. Only after examining the “Link to Other Sites” is the customer directed to aquaculture resources. Clearly, from a user's perspective, a search based on the topic “aquaculture,” which produces the “Resource” webpage, is a more direct path to the information.

In order to make government information more readily available to businesses or citizens, Federal agencies should move from an organizational context to a subject matter and/or audience context to organize and classify information. One approach for improving the organization and classification of government information is to create a standard Federal methodology for classifying information on web pages to improve Federal website content management. A methodology for organizing government information could include the following:

a. A common Federal subject tree for Federal Web sites could significantly assist small businesses and the general public to find the information they seek. The Interagency Committee on Government Information is looking at this issue and is considering the public-centric taxonomies on FirstGov.gov and the departmental portals, as well as the business-line taxonomies used in the Federal Enterprise Architectures Business Reference Model. The ICGI should also consider and compare the Federal Register Thesaurus among the other taxonomies it is reviewing. The Federal Register Thesaurus provides standard broad topics used to classify all Federal regulations and is particularly useful to small businesses.

b. Assisted and unassisted search and navigation could be improved by establishing some basic, common metadata for all top level websites. Areas to be addressed include:

(a) The terminology and taxonomy must include the common terms used by customers, especially small business owners, to locate information.

(b) The Government needs to explore metadata and taxonomies used on business-friendly web sites and by web search engines, especially with regard to how they classify and organize government data, and to identify commonly requested government information.

(c) Trade and library associations can also assist with classification of Federal information, which would make it more accessible to the public, including small businesses.

(d) There is a need to understand and stay current with the state-of-the-art search techniques and taxonomy structures.

(e) The Interagency Committee on Government Information (see Appendix I), established by the E-Gov Act of 2002, has commissioned working groups to address these areas, and their work needs to be supported by the agencies.

Adopting a common Federal subject tree as a Federal taxonomy would, at a minimum, simplify a customer's navigation and search for information by making the classification of subject and content more consistent across the Federal government. Moving toward standard metadata tagging of websites and information across the Federal government would provide the opportunity to construct search engines and wizards that search for information based not only on the subject, but on the business context (i.e., taxes, agricultural loans), linking the search for information more directly to the customer's business needs.

3. Improve Outreach To Small Businesses. Agencies should also take steps to improve outreach to small businesses, including public meetings and announcements regarding information that is available from the agency, especially the collections of information that are of particular interest to small businesses. Additional outreach efforts would significantly improve an agency's efforts to identify opportunities for improving the dissemination of information. As part of this effort, OMB published a summary of the Compliance Assistance Resources offered by the various agencies in the Federal Register (68 FR 38525-38556 (June 27, 2003)). However, more extensive outreach and education efforts are required by the regulatory agencies to make customers aware of the information, assistance, and services that are available to help them comply with regulations and how to access them.

4. Broaden and Improve Partnerships among Agencies with Similar or Overlapping Information Collections. Agencies, with varying degrees of success, have tried independently or in small consortiums, to provide their customers with the information, assistance, and services that meet their needs and expectations. Agencies should be encouraged to expand their effort in working across agency boundaries to improve information dissemination. Agencies should take additional steps to identify other agencies, including state and local government agencies, with similar types of information and partner with them to develop consolidated access to those information collections. This would allow Agencies to eliminate duplication of dissemination and better ensure the accuracy and currency of information. Additionally, it would assist Agencies in identifying sources of information that would be useful in their work. For example, links between web sites with similar or related data can provide additional ease of use and capabilities to the customer.

5. Use the E-Government Cross-Agency Initiatives to Improve Dissemination of Information. The Task Force strongly supports the Administration's E-Government initiatives as ways to further improve the dissemination of electronic information. The E-Gov initiatives should be a tool to achieve further improvements through process re-engineering when feasible. In this way the E-Gov working groups would complement, rather than duplicate, other information dissemination efforts within the agencies. Highlights of activities of some of the E-Government initiatives are included in Appendix I. Further work will need to be done to consolidate or integrate the products of the E-Gov initiatives as these initiatives mature.

6. Determine Customer Needs. Agencies need to conduct a needs and abilities assessment of their customer base in order to provide the right information and services, in an understandable and accessible format that facilitates compliance with Federal regulations and minimizes customer burden. The agencies should make every effort to use existing opportunities and avenues for administering the data collection instrument, including focus groups and surveys, to help determine how the collected data could best be disseminated back to the public. Focus groups and Government-wide portals, such as Business.Gov and FirstGov.gov, should also be employed to collect data regarding customer needs.

7. Market Information. It is the responsibility of the Federal agencies to reach out and inform the public about these resources. Marketing or outreach can be done by individual agencies or by interagency “workgroups.” The SBA should develop a cross-agency marketing or outreach campaign along the lines described above, requesting any additional resources needed through normal budget channels. In addition, third-party organizations, such as universities, trade associations, trade journals and professional societies, should be employed to spread the word to their members (such organizations usually have multiple avenues for communicating “ websites, newsletters, magazines, conferences, etc.).

8. Explore Public/Private Partnerships with Web Services Companies. Federal agencies need to explore working with companies whose search engines look for, classify and link to Agency information. This will assist in identifying other ways of looking at the collection of Federal information.

9. Don't Forget the Human Interface. There is much to be said for electronic dissemination of information, but, as was clearly articulated in the Public Outreach Meeting, there will always be a need for a person to be available to directly answer questions and provide assistance. This service can be provided through Call Centers and other techniques. Federal Help Line employees and small business points of contact should be educated on where to refer data requests across the government, as should specific program employees who may receive questions on data produced by agencies outside their own. Such services can be augmented, but not replaced, by providing “Frequently Asked Questions” on web sites, to respond 24 hours a day to commonly asked questions.

B. Task #5: Recommend a Plan to Develop an Interactive Government-wide Internet Program to Identify Applicable Collections and Facilitate Compliance

A key recommendation from last year's Task Force Report was the use of information technology to reduce the paperwork burden on small businesses. The Task Force recommended application of several ongoing Presidential E-Government initiatives and management reform programs to overcome the technology and policy barriers hindering the harmonization, streamlining, and reengineering necessary to achieve the Act's objectives. Prominent among these recommendations was the realignment of the Business Compliance One-Stop (BCOS) initiative to focus more specifically on reducing the paperwork burden for small businesses. As a direct result of the first Task Force report, the BCOS initiative was renamed Business Gateway, and its governance team began work identifying a solution to the concerns raised by the Congress and citizens, namely to develop an interactive system to identify applicable collections and facilitate compliance.

In developing the recommendation in this second report, the Task Force built upon the following recommendations from the first report.

1. Adoption of a Set of Technology Standards—To provide opportunities for consolidated reporting and information sharing, the gateway should adopt standards that are consistent with industry standards when appropriate. The adopted set of standards should address format, design, security measures, and architecture.

2. Protect and Ensure Privacy—In developing the technology standards, the Federal government should include small businesses and their representatives in development and validation of a strong privacy policy.

3. Strategic Plan—Establish a strategic plan or business case that takes a synergistic approach to an integrated e-forms solution across all Federal agencies. The Federal government should work together to create a road map to implement the plan, within each agency's strategic planning and budget processes. The strategic plan should include burden reduction goals for small businesses.

4. Outreach Efforts to Small Business—Once reporting products become available that meet the government-wide standard, work with agencies to develop a multi-agency plan for marketing the products and services, and training and assisting small businesses to use them.

5. Work with Businesses and Associations—Fruitful areas for streamlining and harmonizing data requirements should be determined, including a new look for ways that businesses and associations can become viable, trusted, collection and dissemination points.

6. Approach Change Incrementally—Select each year a limited group of stakeholders to provide input on reducing information collection burdens.

7. Identify duplication through electronic forms management—The Paperwork Reduction Act requires agencies to self-certify that existing and proposed information gathering systems do not duplicate or overlap those of other systems in the same agency/department.

8. Encourage Agencies to Utilize “Smart” Electronic Forms—Consistent with the Government Paperwork Elimination Act (GPEA), federal agencies should develop “smart” electronic forms that provide immediate feedback to ensure that submitted data meet format requirements and are within the range of acceptable options for each data field. Government forms should be a model of “user friendliness” and efficiency. Agencies should accept electronic submission of forms to avoid errors when paper forms are manually transcribed.

Recommendations

The Task Force proposes adoption of the implementation plan for the Business Gateway to help businesses find, understand, and comply with Federal laws, regulations, and information collection requirements.

As a result of the first task force report, the project team increased emphasis on consolidating and harmonizing Federal paperwork requirements, which would help meet the goals of the Act, the Paperwork Reduction Act (PRA), the Government Paperwork Elimination Act (GPEA), and the E-Government Act of 2002. In addition to addressing Federal paperwork requirements, Business Gateway will provide a Web-based portal for small businesses looking to find useful regulatory information in one place.

Business Gateway Vision, Mission, and Strategic Goals

The vision of the Business Gateway E-Government initiative is:

To reduce the burden on the Nation's small businesses by simplifying and improving electronic access to Federal Government information, programs and services and provide businesses and citizens with a one-stop means to find, fill, sign and submit forms and transactions electronically.

This vision is focused on alleviating the estimated $320 billion annual regulatory burden imposed on citizens and business by the Federal Government. Since forms account for about half of that burden, the initiative's emphasis on customer-friendly forms offers significant savings to small businesses that can be reinvested in productivity enhancement and job creation.

In order to achieve the vision, the Business Gateway seeks to build a Federal cross-agency infrastructure to provide useful regulatory information in one place, eliminate redundant data collection and provide electronically fill-able, file-able, and sign-able forms.

The initiative will result in an interactive Government-wide Internet solution that provides a “one-stop” access point for Federal regulatory and information collection requirements affecting small businesses; enables them to find, fill out, and sign the required forms; and ensures that information common to multiple Federal information collection requirements is gathered only once and used multiple times to ensure data integrity and consistency throughout the compliance process.

The goals of the Business Gateway are:

1. To provide the Nation's small business owner with a single access point to government services and information designed to assist them to start, run, and grow their business

2. To simplify, unify, and better manage citizen-facing E-forms infrastructure and processes on a government-wide basis

3. Begin the process of harmonizing and streamlining data.

Each of these goals is aligned with a specific technology solution, and the integration of these solutions will meet the requirements of the Act for “an interactive Government-wide system, available through the Internet” that eases the regulatory burden on small businesses. This integrated Internet system will also provide a single Federal cross-agency architectural framework that could eventually simplify the integration of Federal and state reporting requirements for small businesses. This will facilitate further dialogue between the Federal Government and the states on the coordination of reporting requirements as called for in both SBPRA and the E-Government Act. The following information describes each of the three specific goals.

Goal 1: To provide the Nation's small business owner with a single access point to government services and information designed to assist them to start, run, and grow their business.

To achieve this goal, the Business Gateway Program Office will develop a business portal on the Web, providing a “one-stop” service portal that greatly simplifies and streamlines the relationship between government, citizens and businesses by being the single access point for:

1. Government services and information needed to start, run, and grow a business.

2. Tools to find information and to comply with government laws and regulations.

The Business Gateway business portal will include a searchable library of information that deals with government services for businesses, and will provide links to several existing Federal Web sites with content and services relevant to small businesses. Examples of such sites include cross-agency Web sites such as Business.gov, Export.gov, Regulations.gov, and Grants.gov, and department/agency specific sites such as SBA.gov. The business portal will save small businesses approximately $56 million annually by consolidating relevant content and services in one place and by providing a user-friendly navigation scheme to make it easier to locate the desired information.

The Business Gateway business portal will adopt the uniform resource locator (URL), or Web address, currently used by the U.S. Business Advisor (Business.gov). The content of the U.S. Business Advisor will be updated, streamlined, and harmonized with similar content on BusinessLaw.gov and portions of SBA.gov to eliminate duplication, identify gaps in content or services, and greatly simplify navigation for an improved user experience.

The implementation of the Business Gateway business portal will occur in three phases.

In Phase I, the business portal will, in fact, be a “metasite” rather than a true portal, simply offering an aggregation of links to Federal Web sites selected for content and services relevant to small businesses. The metasite model will have a home page with a specific user interface, or “look and feel”, but selecting a link will deliver the user to another Web site altogether. Also during this phase, the Business Gateway program office will develop an information architecture to provide a roadmap for business content to be included under the business portal.

In Phase II, the Web site will shift from a metasite to a true portal, utilizing a common look and feel for all offered content and services, even though it will access information from different agencies and technology platforms. The software tools used to develop and maintain the portal will give small businesses the option of a standard or custom interface depending on their needs.

In Phase III, the Business Gateway Program Office will fully integrate small business content and services into a common technology platform, with common tools to create, manage, publish, and integrate content. Federal agencies will still own the content and services, and the processes associated with them, but this fact will be transparent to small business users, who will have access to a common portal. User customization features will be fully available so that small businesses can tailor the portal to meet their unique needs.

Phase I is expected to be completed by September 2004. The timeline for subsequent phases are to be determined.

Goal 2: To simplify, unify, and better manage citizen-facing E-Forms infrastructure and processes on a government-wide basis.

This goal will be met through the development and deployment of a single point of entry to “Government to Business” (G2B) and “Government to Citizen” (G2C) Federal forms and forms systems from 43 Federal departments and agencies. This capability will be accessible through the business portal (Business.gov) and will eventually allow small businesses to electronically find, fill out, and file the necessary Federal forms for compliance with Federal laws and regulations, all from a single Web location.

The forms component of the Business Gateway will include a forms portal containing a catalog of G2C and G2B forms, regardless of format (electronic, paper, Web questionnaire, etc.). This catalog will perform two functions. First, the catalog will enable small businesses to locate a form in the Federal Government that they may need and point them to the appropriate Federal site to acquire the form or fill it out directly online and submit it for further processing. Second, the catalog will provide Federal agencies with a common architecture to manage common forms processes, including inventory, version control, access management, utilization metrics, metadata (data about the data elements on the form), search, and user customization.

The forms architecture will also provide a shared services utility for forms deployments in the Federal Government. This means that agencies seeking full compliance with GPEA by converting their paper forms to an electronic format will have a Federal cross-agency platform ready to support their requirements. This will eliminate the need for future agency-specific investments in new forms systems.

Eventually, the forms architecture will mature to include a forms engine that will support electronically “fill-able, file-able, and sign-able” forms. The forms engine will be integrated with an Extensible Markup Language (XML) Gateway, allowing the data collected by these forms to be routed to the appropriate agencies in XML format and fed directly into legacy systems for processing. The use of XML provides a common data standard for information sharing across the Federal Government and with other public and private sector enterprises.

The implementation of the Business Gateway forms component occurs in three phases. In Phase I, 43 Federal agencies will create and populate an electronic forms catalog by checking in their G2C and G2B forms. This will give small businesses a “one-stop” service portal for finding Federal customer-facing forms. Since all of the G2B and G2C transactions will have their metadata in one place, small businesses will be able to find the forms they need, no matter where they reside and regardless of the format, since the catalog links to existing agency-specific forms systems. In addition, the Business Gateway will sponsor a select number of hosted and brokered forms systems. Federal agencies that have yet to invest in forms systems will be supported by an e-forms shared services organization which will offer them assistance and e-forms options and help bring them into full GPEA compliance. Finally, select industry segments that are highly regulated will be used as a proof of concept to reduce overall forms burden through data harmonization and streamlining. This process will be explained under Goal 3.

In Phase II, hosted and brokered forms systems will continue to operate as an interim step between multiple agency-specific forms systems, which will also continue to exist, and a common forms engine to support all Federal forms requirements. These forms systems will facilitate the migration of those agencies that use them to the common forms engine and the XML Gateway when they are deployed.

In Phase III, the hosted and brokered forms systems under the shared services model will be migrated into the Federal forms engine that allows small businesses and citizens to find, fill, file, and sign forms, and the XML Gateway to facilitate data exchange with Federal agency legacy systems.

Goal 3: Begin the process of harmonizing and streamlining data collection in order to reduce burden and make it easier for businesses to interact with the Federal government.

To achieve this goal, the Business Gateway team will work with specific industries and Federal agencies to harmonize data elements, forms, and processes and reduce the regulatory paperwork burden by reducing the duplication and overlap in data and forms. The model resulting from these industry-specific pilot programs will be used to harmonize data in other industry sectors and business life cycle categories. The success of this effort will reduce the number of forms used across agencies, and allow small businesses to submit information common to multiple forms one time and have it reused many times. Both of these outcomes will reduce the amount of time small businesses spend complying with Federal laws and regulations.

The pilot projects identified for the Business Gateway address two heavily regulated industry sectors, trucking and surface coal mining that could benefit greatly from burden reduction. The development tasks to be accomplished during these pilot programs include the:

1. Identification of common data across diverse forms;

2. Definition of business rules for the industry vertical sector(s), and;

3. Creation of “one form” to collect common data, and another for the remaining unique data.

The value of this effort to the small business is apparent when multiple customer-facing forms are reduced to a single form for common data, and a single form for unique data. The data collected from these forms can be used to populate all the forms required for the small business to be compliant with Federal laws and regulations.

These pilot programs are scheduled to be completed in October 2004.

Conclusion: Based on the analysis of the problem, assumptions, and issues discussed above, the Task Force recommends the development of the Business Gateway as an interactive Government-wide Internet program to identify applicable collections and facilitate compliance. This initiative is designed specifically to meet the Act's objective of reducing the paperwork burden on America's small businesses. The initiative accomplishes this by:

1. providing a single Web point of access for relevant regulatory information and all Federal G2C and G2B forms, and

2. harmonizing industry-specific information collection requirements to collect information once and use it many times and reduce the overall number of forms to be completed.

The Business Gateway, using the Internet as a service delivery channel, will promote the rate and accuracy with which citizens and small businesses comply with the myriad of government regulations, and save them millions of dollars which can be reinvested in the growth of our economy.

Appendix I—Highlights of E-Government Activities That Are Improving Electronic Information Dissemination

U.S. Government Gateway (GSA): http://www.firstgov.gov. FirstGov.gov, the official U.S. gateway to all government information. On FirstGov.gov, you can search millions of web pages from Federal and state governments, the District of Columbia and U.S. territories. Most of these pages are not available on commercial websites. FirstGov has the most comprehensive government search engine anywhere on the Internet. Government information on FirstGov is also presented to visitors through various channels such as by audience, by topics, and by organization. For visitors that are unable to find the information on their own, FirstGov accepts and responds to e-mail and provides a telephone number to the National Contact Center which is equipped to answer questions and provide referrals to appropriate agencies. See USAServices below.

Federal Statistical Information: http://www.fedstats.gov. FedStats provides the full range of official statistical information available to the public from the Federal Government. It uses the Internet's powerful linking and searching capabilities to track economic and population trends, education, health care costs, aviation safety, foreign trade, energy use, farm production, and more. It accesses official statistics collected and published by more than 100 Federal agencies without having to know in advance which agency produces them. All of the statistical information available through FedStats is maintained and updated solely by Federal agencies on their own web servers.

E-Rulemaking (EPA): http://www.regulations.gov. Allows citizens to easily access and participate in the rulemaking process. It improves the access to, and the quality of, the rulemaking process for individuals, businesses, and other government entities while streamlining and increasing the efficiency of internal agency processes.

International Trade Process Streamlining (DoC): http://www.export.gov. Makes it easy for Small and Medium Enterprises (SMEs) to obtain the information and documents needed to conduct business abroad.

Business Gateway (SBA): http://www.business.gov. Reduces the burden on businesses by making it easy to find, understand, and comply (including submitting forms) with relevant laws and regulations at all levels of government.

Geospatial One-Stop (DoI): http://www.geodata.gov. Provides Federal and state agencies with a single-point of access to map-related data, enabling consolidation of redundant data.

Disaster Management (DHS): http://www.disasterhelp.gov. Provides Federal, state, and local emergency managers on-line access to disaster-management-related information, planning, and response tools.

Grants.gov (HHS): http://www.grants.gov. Creates a single portal for all Federal grant customers to find, apply, and ultimately manage grants on-line.

Recruitment One-Stop (OPM): http://www.usajobs.gov. Outsources delivery of USAJOBS Federal Employment Information System to deliver state-of-the-art on-line recruitment services to job seekers including intuitive job searching, on-line resume submission, applicant data mining, and on-line feedback on status and eligibility.

Recreation One-Stop (DoI): http://www.recreation.gov. Provides a single-point of access, user-friendly, web-based resource to citizens, offering information and access to government recreational sites.

GovBenefits.gov (DoL): http://www.govbenefits.gov. Provides a single point of access for citizens to locate and determine potential eligibility for government benefits and services.

E-Loans (ED)

Creates a single point of access for citizens to locate information on Federal loan programs, and improves back-office loan functions.

USA Services (GSA) http://www.firstgov.gov 1-800-FedInfo and Pueblo CO 81009. Develop and deploy government-wide citizen customer service using industry best practices that will provide citizens with timely, consistent responses about government information and services.

Additional Cross Agency Portals

A more complete list of other Cross Agency Portals and initiatives can be found on FirstGov.gov at http://www.firstgov.gov/Topics/Cross_Agency_Portals.shtml.

Interagency Committee on Government Information (ICGI) Work Groups: http://www.cio.gov/documents/ICGI.html. In response to the E-Gov Act of 2002, the ICGI has formed cross-agency working groups which are addressing categorization of information; electronic records policy; and web content management.

Appendix II—Business Gateway Governance

The Business Gateway is a coordinated effort of 14 Federal agencies, with the U.S. Small Business Administration (SBA) as the managing partner. The Business Gateway Governance Board is chartered by the participating agencies, and comprised of senior representatives from each agency. The participating agencies include the Small Business Administration (Managing Partner), Department of Labor, General Services Administration, Department of Transportation, Department of Homeland Security, Environmental Protection Agency, Department of Commerce, Department of Health and Human Services, Department of Energy, Social Security Administration, Department of Interior, Department of Treasury, Department of Justice and Department of Agriculture.

Appendix III—Summary of Public Comments on Implementing the Small Business Paperwork Relief Act of 2002, Excerpted From the Transcript of a Public Outreach Meeting Held by the Office of Advocacy on February 9, 2004

Electronic Dissemination of Information Collected Under Federal Requirements

“I think that there's a lot of discussion about industry-specific information. But I think you should also think in terms of doing general industry information * * * they have some idea they've got to put all their ducks in a row outside of their industry-specific information. Other information would be useful * * * by size standard * * * Another thing is triggers by organizational structure * * *” Anita Drummond, Associated Builders and Contractors, pp. 20-21.

“The biggest complaint that our members (NFIB) mentioned * * * was trying to understand whether or not they were required to comply with a given regulation. In some cases * * * it costs a business owner more money to find out if they had to comply than they actually spent complying * * * (there should be) something that would direct a business owner directly to certain requirements of their business, to try to tell them within a few short clicks.” Bruce Phillips, National Federation of Independent Business (NFIB), pp. 25-26.

“One of the major complaints we get from our small business members, frankly, is that the language in the websites is just not real business friendly. It is too stilted. It's too complex. It's too ‘government-ese.’” Bruce Philips, NFIB, p. 27.

Regulatory Compliance Information on the Web

“We have a weekly newsletter that's more government oriented than anything else, but it also has compliance and regulatory on there. And we're finding it very helpful to hyperlink directly from the newsletter. So instead of just having a website that's back there, we actually are proactively printing out requirements that we'll get calls on * * *” Michael Wilson, Textile Rental Services Association, p. 32.

“I find it a little disconcerting that an agency would not want to put all of its regulatory information up on the Web. You know, if the businesses have to comply with it, they have to be able to find it, and for a lot of them, the only place they're going to be able to go to find that information is the Web. We've found out from our own polling, you know, businesses find out about regulations by talking to other businesses, or they find out by going to the Web or doing some basic research.” Andrew Langer, NFIB, p. 35.

“A big pet peeve of mine * * * not being able to find the document because you don't have the exact name that it's searchable under.” Andrew Langer, NFIB, p. 45.

“Our members tell us that when they finally find the information, they think they find the information they're looking for, what they really want is a phone number, toll free or not, or a fax number that they can get their answers to immediately.” Bruce Phillips, NFIB, p. 46.

Compliance Assistance Hotlines

“We use the EPA refrigerant hotline a lot, and that used to have funding so they would be able to have a contractor do it. Now it's the actual division head at EPA who answers all the calls, which put a tremendous burden on him as well as not meeting the needs of people that are calling in, since you only have one person that's answering the phone now.” John Herzog, Air Conditioning Contractors of America (ACCA), p. 49.

“I would just like to comment on the importance of there being hotlines that are somewhat available because in all of our e-strategies and e-government, I think sometimes we do lose sight of the fact that there are some small businesses and small business owners who either aren't on the Web or at least aren't comfortable on the Web.” Todd McCracken, National Small Business Association, pp. 49-50.

Single Point of Contact Within an Agency

“Colorado in the ’80s started an ombudsman for business, and they set a single spot—it was Wellington Webb, who later became the mayor of Denver. And that was so a business could go to this one single center and get all the information in terms of licenses needed and what paperwork they had to do in order to be in business in the state.” John Herzog, ACCA, p.24.

“You need to have someplace the small business person can go outside of the Web to get a real-time answer to a question, because usually there may be some sort of urgency, or they may just get carried away in the course of their business that they may not have time other than that moment when they have however long it takes them to call.” Andrew Langer, NFIB, p. 53.

Update on Business Gateway Project

“I'd like to say that the good part is, what you're telling us is what we've heard, and that's the direction we're moving in. * * * We wanted to focus more specifically on making an easy way to find the information and compliance, all the things in terms of making the one-stop access to who wants information specifically from a website that's posted almost without the agency to it; more of a portal of information.” Shivani Desai, Office of Management and Budget, pp. 59-60.

“(On forms) So of the thousands of transactional forms, one place across 43 agencies at this point in one website. Those forms, plus the access to many different portals that have different content needs. There's business, there's grants, there's benefits. There are other portals already there from the federal perspective that have content informational things that will guide a person to understanding what they need to do to comply.” Sandy Gibbs, U.S. Small Business Administration, p.64.

Opportunities To Reduce Regulatory Burdens

“But one of the problems that we see is a state/federal interface. On the Boiler MACT standards that are coming up, the paperwork for the federal requirements may not be so onerous that it be devastating. It's going to be onerous, but we've accepted it. But there's going to be an even greater paperwork burden at the State Title V levels with regard to that rule, and that's not really been addressed.” Bob Bessette, Council of Industrial Boiler Owners, pp. 66-67.

“New York City actually had a terrific website, and I'd use that as a model of where actually the Federal Government should be. You go onto the website, and it asks you a series of questions * * * it will go through a flow chart; and as it goes through that flow chart, at the end it produces all the regulations and all the different submissions that you have to have at the end or submit and provide the state and licenses” Giovanni Coratolo, U.S. Chamber of Commerce, pp. 22-23.

“Business owners complain actually that half their burden approximately is state-local and the other half is federal. So any formal or final version that uses the Web as a compliance tool should have some sort of links clearly to the state in which your business is located * * *” Bruce Phillips, NFIB, p.26.

“For sending hazardous waste off-site to be treated and disposed, or even recycled in some cases, you have to submit a hazardous waste manifest. There's been an initiative at EPA for a couple of years now to try to create electronic manifests where you could go onto a EPA site and fill that out and then submit it. There are about 25 states that have agreed to that arrangement * * * that would be very helpful.” Jeff Gunnulfsen, SOCMA, p. 71.

Reducing IRS Paperwork Requirements

“I think if you can combine forms as often as you can so that you don't have the duplications, and then when you fill the form out it goes to the various agencies that need to know that would be one step * * *” John Herzog, ACCA, p.75.

“I've worked very closely with the Office of Burden Reduction, and my biggest complaint is it's just not big enough. I think they have like three people over there, and 80 percent of the paperwork is in the IRS. I mean if you really want to make a meaningful foray into reducing paperwork, I think the IRS has to really increase that office.” Giovanni Coratolo, U.S. Chamber, p. 76.

Miscellaneous Comments

“I think there should be an effort made by every agency to make sure that their websites are Google searchable.” Andrew Langer, NFIB, p. 35.

“There doesn't seem to be a consolidated place for them—for us to go find the partner we want for small business firms in a lot of business. You can't find them at any websites for any of the organizations. You know, certifications, for the most part you have to certify for the small business owners. It's cumbersome and it takes an enormous amount of time for the paperwork to be filled out.” Johnnie Simpson, National Veterans Association Business Forum, p.57.

Appendix IV—Small Business Paperwork Relief Task Force Members

Agency | Member | Title
Office of Management and Budget | Dr. John Graham | Administrator, Office of Information and Regulatory Affairs.
Office of Management and Budget | Karen S. Evans | Administrator, Office of E-Government and Information Technology.
Department of Agriculture | Marty Mitchell | Chief of Information Collection Division.
Department of Commerce | Karen Hogan | Deputy Chief Information Officer.
Department of Energy | William Lewis | Office of Economic Impact and Diversity.
Department of Interior | Edwin McCeney | Office of the Chief Information Officer.
Department of Interior | Peter Ertman | E-Gov Program Manager, Bureau of Land Management.
Department of Labor | Robert Gaddie | Associate Commissioner for Sale Operations.
Department of Labor | Barbara Bingham | Director, Office of Compliance Assistance Policy.
Department of Labor | Audie Woolsey | Directorate of Cooperative State Programs, OSHA.
Department of Labor | Paula White | Director, Directorate of Cooperative State Programs, OSHA.
Department of Labor | Jeff Koch | Special Assistant to the Chief Information Officer.
Department of Labor | David Gray | Acting Assistant Secretary for Policy.
Department of Labor | Tyna Coles | Director, Office of Small Business Assistance.
Department of Justice | Robert B. Briggs | Program Manager, Information Collection Svcs, Justice Management Division.
Department of Transportation | Steve Lott | Manager, Strategic Integration, IT Program Management, Office of the CIO.
Environmental Protection Agency | Jay Benforado | Director, National Center for Environmental Innovation, Office of Policy Economics, and Innovation.
Environmental Protection Agency | Jim Edward | Director, Compliance Assistance and Sector Programs Division.
Environmental Protection Agency | Kim Nelson | Assistant Administrator, Chief Information Officer.
Environmental Protection Agency | Karen Brown | Director, Small Business Division, Small Business Ombudsman, SBPRA POC.
Environmental Protection Agency | Tracy Back | Team Leader, Compliance Assistance and Sector Programs Division.
Environmental Protection Agency | Catherine Tunis | Senior Analyst, Small Business Division.
General Services Administration | Felipe Mendoza | Associate Administrator, Small Business Utilization.
Health and Human Services | Arthuretta Martin | Deputy Director, Office of Small and Disadvantaged Business Utilization.
Health and Human Services | Michael Miller | Director, Audit, Analysis, and Information Group Office of Strategic Operations and Regulatory Affairs Centers for Medicare and Medicaid Services.
Internal Revenue Service | Ron Kovatch | Senior Advisor, Office of Taxpayer Burden Reduction.
Small Business Administration | Ron Miller | Program Executive Officer for E-Government.
Small Business Administration | Jody Wharton | Director of Information, Office of Advocacy.

Appendix V—Contributing Staff

Agency | Member | Title
Office of Management and Budget | Donald Arbuckle | Deputy Administrator, Office of Information and Regulatory Affairs (OIRA).
Office of Management and Budget | David Rostker | Policy Analyst, OIRA.
Office of Management and Budget | Keith Belton | Policy Analyst, OIRA.
Office of Management and Budget | Jonathan Womer | Policy Analyst, OIRA.
Office of Management and Budget | Shivani Desai | Policy Analyst, OIRA.
Office of Management and Budget | Jack Koller | G2C Portfolio Manager.
Small Business Administration | Keith Holman | Assistant Chief Counsel, Office of Advocacy.

[FR Doc. 04-10220 Filed 5-4-04; 8:45 am]

BILLING CODE 3110-01-P